DEPARTMENT OF LABOR

Employment and Training Administration

[NAFTA-003869]

Cooper Energy Services, C-B Reciprocating Products Division, Grove City, Pennsylvania; Notice of Termination of Investigation

Pursuant to Title V of the North American Free Trade Agreement Implementation Act (Pub. L. 103-182) concerning transitional adjustment assistance, hereinafter called NAFTA-TAA and in accordance with Section 250(a), Subchapter D, Chapter 2, Title II, of the Trade Act of 1974, as amended (19 U.S.C. 2331), an investigation was initiated on April 27, 2000, in response to a petition filed on behalf of workers at Cooper Energy Services, C-B Reciprocating Products, Grove City, Pennsylvania. Cooper Energy Services is a division of Cooper Cameron Corporation. Workers produced cast and ductile iron castings.

The Department has determined upon reconsideration that the worker group for which the petition was filed is eligible to apply for transitional adjustment assistance (NAFTA-003527). Due to the foregoing determination, an active certification exists for these workers. Consequently, further investigation in this case would serve no purpose, and the investigation has been terminated.

Signed in Washington, DC this 30th day of June 2000.
Edward A. Tomchick,
Program Manager, Division of Trade Adjustment Assistance.

[FR Doc. 00-17311 Filed 7-7-00; 8:45 am]

BILLING CODE 4510-30-M